DEPARTMENT OF LABOR

Office of the Secretary

Submission for OMB Review; Comment Request

October 10, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Application for Continuation of Death Benefit for Student.

OMB Number: 1215-0073.

Affected Public: Individuals or households and Business or other for-profit.

Frequency: On Occasion.

Number of Respondents: 43.

Number of Annual Responses: 43.

Estimated Time Per Response: 30 minutes.

Total Burden Hours: 22.

Total Annualized Capital/Startup Costs: $0.

Total Annual Costs (operating/maintaining systems or purchasing services): $0.

Description: The Office of Workers' Compensation Programs (OWCP) administers the Longshore and Harbor Workers' Compensation Act. This Act was amended on October 27, 1972, to provide for continuation of death benefits for a child or certain other surviving dependents after the age of 18 years (to age 23) if the dependent qualifies as a student as defined in section 2(18) of the Act.

The information collected from Form LS-266 is used by OWCP to assure that a claimant receives all of the benefits under the Act to which he/she may be entitled. If the information were not collected, there would be no way to determine the proper status of a student and his/her continued entitlement to benefits.

Ira L. Mills,
Departmental Clearance Officer.

[FR Doc. 01-26345 Filed 10-18-01; 8:45 am]

BILLING CODE 4510-27-M